DEPARTMENT OF THE INTERIOR

Bureau of Land Management

[CACA 49698, LLCAD07000, L51010000.FX0000, LVRWB10B3810]

Notice of Availability of the Record of Decision for the Tule Wind, LLC's Tule Wind Project, San Diego County, CA

AGENCY: Bureau of Land Management, Interior.

ACTION: Notice of Availability.

SUMMARY: The Bureau of Land Management (BLM) announces the availability of the Record of Decision (ROD) for the project, located in San Diego County. The Secretary of the Interior approved the ROD on December 19, 2011, which constitutes the Department's final decision.

ADDRESSES: Copies of the ROD are available upon request from the Field Manager, BLM El Centro Field Office, 1661 S. 4th Street, El Centro, California 92243, and the BLM California Desert District Office, 22835 Calle San Juan de Los Lagos, Moreno Valley, California 92553, or via the Internet at the following Web site: http://www.ca.blm.gov/elcentro.

FOR FURTHER INFORMATION CONTACT: Greg Thomsen, Project Manager, telephone (951) 697-5237; address BLM California Desert District Office, 22835 Calle San Juan de Los Lagos, Moreno Valley, California 92553-9046; email catulewind@blm.gov.

SUPPLEMENTARY INFORMATION: Tule Wind, LLC, a wholly owned subsidiary of Iberdrola Renewables, Inc., filed right-of-way (ROW) application CACA-51204 for the Tule Wind Project. The project will consist of up to 62 wind turbines (1.5 to 3.0 megawatts (MW) each) with a generating capacity of up to 186 MW, an overhead and underground 34.5-kilovolt (kV) collector system leading to a collector substation, an operations and maintenance facility, and a 138-kV transmission line as the generation tie-in to the existing Boulevard Substation. The Tule Wind Project will be on 12,200 acres of BLM-managed lands. The project site is located in the In-Ko-Pah Mountains near the McCain Valley in San Diego County, north of the unincorporated community of Boulevard.

The BLM selected the preferred alternative that was evaluated in the Final EIS. The Notice of Availability of the Final EIS for the Tule Wind Project was published in the Federal Register on October 24, 2011 (76 FR 65746). In addition to the Tule Wind Project, the Final Environmental Impact Statement (EIS)/Environmental Impact Report evaluated a ROW application by San Diego Gas & Electric (SDG&E) to construct the ECO Project, which includes a 138-kV transmission line that would traverse approximately 1.5 miles of public land managed by the BLM. The BLM will issue a separate decision on the SDG&E's ROW application.

As a result of the ROD, access to certain recreation areas including, but not limited to, the Lark Canyon OHV Area, Lark Canyon Campground, Cottonwood Campground, Carrizo Overlook, and Sacatone Overlook could be reduced during construction, and in some instances, access roads off McCain Valley Road to these areas may be temporarily closed (resulting in an inability to access these areas and facilities by vehicles) during the period of time construction is authorized. Specific routes and times will be announced when a more detailed construction schedule is completed.

Because this decision is approved by the Secretary of the Interior, it is not subject to administrative appeal (43 CFR 4.410(a)(3)).

Authority: 40 CFR 1506.6.

Robert V. Abbey,
Director, Bureau of Land Management.

[FR Doc. 2011-33093 Filed 12-23-11; 8:45 am]

BILLING CODE 4310-40-P